DEPARTMENT OF DEFENSE

Department of the Navy

Meeting of the Board of Visitors of Marine Corps University

AGENCY: Department of the Navy, DOD.

ACTION: Notice.

SUMMARY: The Board of Visitors of the Marine Corps University (BOV MCU) will meet to review, develop and provide recommendations on all aspects of the academic and administrative policies of the University; examine all aspects of professional military education operations; and provide such oversight and advice as is necessary to facilitate high educational standards and cost effective operations. The Board will be reviewing the fiscal plan for next year, the University's Facilities Master Plan, Board presiding officer restrictions contained in the regional accrediting guidelines, and the status of the review and update of the Board By-laws. All sessions of the meeting will be open to the public.

DATES: The meeting will be held on Monday and Tuesday November 13-14, 2000 from 9 a.m. to 4 p.m.

ADDRESSES: The meeting will be held at the Marine Corps University Research Center, 2040 Broadway Street, Room 164, Quantico, VA 22134.

FOR FURTHER INFORMATION CONTACT: Garry Smith, Executive Secretary, Marine Corps University Board of Visitors, 2076 South Street, Quantico, VA 22134, (703) 784-4037.

Dated: September 22, 2000.
J.L. Roth,
Lieutenant Commander, Judge Advocate General's Corps, U.S. Navy, Federal Register Liaison Officer.

[FR Doc. 00-25361 Filed 10-2-00; 8:45 am]

BILLING CODE 3810-FF-P